DEPARTMENT OF JUSTICE

Antitrust Division

Notice Pursuant to the National Cooperative Research and Production Act of 1993—AllSeen Alliance, Inc.

Notice is hereby given that, on February 9, 2015, pursuant to section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, GeoPal Solutions, Dublin, IRELAND; Powertech Industrial Co., Ltd., New Taipei City, TAIWAN; Modacom Co., Ltd., Seoul, REPUBLIC OF KOREA; LG Uplus Corporation, Seoul, REPUBLIC OF KOREA; Euronics International, Hoofddorp, THE NETHERLANDS; Hubble Connected Limited, Victoria, British Columbia, CANADA; TCL Corporation, Guangdong, PEOPLE'S REPUBLIC OF CHINA; HOUZE Advanced Building Science, Houston, TX; Honeywell International, Golden Valley, MN; Shenzhen H&T Home Online Network Technology Co., Ltd., Shenzhen, PEOPLE'S REPUBLIC OF CHINA; Blackloud, Inc., Irvine, CA; DAWON DNS Co., Ltd., Gyeonggi-do, REPUBLIC OF KOREA; Domos Labs, Oslo, NORWAY; Helium Systems, Inc., San Francisco, CA; Lumen Cache, McCordsville, IN; Playtabase, Minneapolis, MN; wot.io., New York, NY; Openmind Networks, Inc., Mountain View, CA; Taiwan Intelligent Home, Tainan City, TAIWAN; M/s Personal Air Quality Systems Pvt Ltd., Karnataka, INDIA; Lhings, Barcelona, SPAIN; Connectuity, Louisville, KY; and iiNet Limited, Perth, AUSTRALIA, have been added as parties to this venture.

Also DoubleTwist Corporation, San Francisco, CA; Moxtreme Corporation, Saratoga, CA; Wilocity, Sunnyvale, CA; Revolv Inc., Boulder, CO; and Shaspa GmbH, Boeblingen, GERMANY, have withdrawn as parties to this venture.

No other changes have been made in either the membership or planned activity of the group research project. Membership in this group research project remains open, and AllSeen Alliance intends to file additional written notifications disclosing all changes in membership.

On January 29, 2014, AllSeen Alliance filed its original notification pursuant to section 6(a) of the Act. The Department of Justice published a notice in the Federal Register pursuant to section 6(b) of the Act on March 4, 2014 (79 FR 12223).

The last notification was filed with the Department on November 24, 2014. A notice was published in the Federal Register pursuant to section 6(b) of the Act on December 23, 2014 (79 FR 77038).

Patricia A. Brink,
Director of Civil Enforcement, Antitrust Division.

[FR Doc. 2015-05662 Filed 3-11-15; 8:45 am]

BILLING CODE P